DEPARTMENT OF THE INTERIOR

National Park Service

Golden Gate National Recreation Area Notice of Public Meetings for Calendar Year 2006

Notice is hereby given that public meetings of the Golden Gate National Recreation Area will be scheduled in calendar year 2006 to hear presentations on issues related to management of the Golden Gate National Recreation Area. These public meetings are scheduled for the following dates in San Francisco and at locations yet to be determined in San Mateo County and Marin County, California:

Tuesday, February 28, 7 p.m., Park Headquarters, Fort Mason, San Francisco, CO.

Tuesday, May 16, 7 p.m., Marin County, CA location (TBA).

Possible date in June or July (TBA), Marin County, CA location (TBA).

Tuesday, September 19, 7 p.m., Pacifica, CA location (TBA).

Tuesday, November 28, 7 p.m., Park Headquarters, Fort Mason, San Francisco, CA.

All public meetings will be held at 7 p.m. at the scheduled locations to be announced (TBA). Information confirming the time and location of all public meetings or cancellations of any meetings can be received by calling the Office of the Public Affairs at (415) 561-4733. Public meeting agendas and all documents for public scoping and public comment on issues listed below can be found on the park Web site at http://www.nps.gov/goga.

Anticipated possible agenda items at meetings during calendar year 2006 include:

• Redwood Creek Coastal Wetland Restoration Project (Big Lagoon Wetland and Creek Restoration Project) Draft Environmental Impact Statement [DEIS].

• Marin Headlands—Fort Baker Transportation Plan Draft Environmental Impact Statement [DEIS].

• Golden Gate National Recreation General Management Plan Update Draft Environmental Impact Statement [DEIS].

• San Francisco Muni E-Line Extension Project Environmental Impact Statement [EIS].

• GGNRA Dog Management Plan.

• Crissy Marsh Expansion Project NEPA Document.

• Mori Point Trail and Restoration Plan Environmental Assessment [EA].

• Dias Ridge and Coast View Trails Rehabilitation and Access Improvement Project Environmental Assessment [EA].

• Maintenance Facility Interim Relocation Project Environmental Assessment [EA].

• Equestrian Planning Project Environmental Assessment [EA].

• Lower Redwood Creek Restoration Project Environmental Assessment [EA].

• Headlands Institute Campus Improvement Project Environmental Assessment [EA].

• Tennessee Valley Trail Improvement Project.

These meetings will also contain Superintendent's Reports on timely park issues and events. Each meeting will be conducted by a facilitator and a verbatim transcript will be prepared by a court reporter. Specific final agendas for these meetings will be made available to the public at least 15 days prior to each meeting and can be received by contacting the Office of the Staff Assistant, Golden Gate National Recreation Area, Building 201, Fort Mason, San Francisco, California 94123 or by calling (415) 561-4733. They are also noticed on the Golden Gate National Recreation Area Web site http://nps.gov/goga under the section “Public Meetings”.

All meetings are open to the public. They will be recorded for documentation and transcribed for dissemination. Sign language interpreters are available by request at least one week prior to a meeting. The TDD phone number for these requests is (415) 556-2766. A verbatim transcript will be available three weeks after each meeting. For copies of the agendas contact the Office of the Staff Assistant, Golden Gate National Recreation Area, Building 201, Fort Mason, San Francisco, California 94123, or call (415) 561-4733.

Dated: December 16, 2005.
Mai Liis Bartling,
Acting General Superintendent, Golden Gate National Recreation Area.

[FR Doc. 06-837 Filed 1-27-06; 8:45 am]

BILLING CODE 4312-FN-M